DEPARTMENT OF HEALTH AND HUMAN SERVICES

Centers for Disease Control and Prevention

Building Comprehensive Prevention Program Planning and Evaluation Capacity for Rape Prevention and Education Funded Programs

Announcement Type: New.

Funding Opportunity Number: RFA 05037.

Catalog of Federal Domestic Assistance Number: 93.136.

Key Dates:

Letter of Intent Deadline: April 18, 2005.

Application Deadline: May 16, 2005.

I. Funding Opportunity Description

Authority: This program is authorized under section 393B of the Public Health Service Act (42 U.S.C. section 280b).

Purpose: The Centers for Disease Control and Prevention (CDC) announces the availability of a fiscal year 2005 cooperative agreement to build comprehensive prevention program planning and evaluation capacity among selected Rape Prevention and Education (RPE) funded sexual violence prevention programs and to assess short-term and intermediate capacity building outcomes for each program. Prevention program planning and evaluation will be focused on the national Rape Prevention and Education Program logic model as well as comprehensive primary prevention strategies. In May 2004 CDC completed an evaluability assessment of the national RPE program. One of the key recommendations of the evaluability assessment is to build capacity for prevention program planning and evaluation among funded recipients.

Specific purposes of this funding are to:

1. Increase the capacity of selected Rape Prevention and Education funded programs to engage in comprehensive prevention program planning for their state Rape Prevention and Education Program.

2. Increase the capacity of selected Rape Prevention and Education funded programs to develop and implement an evaluation of their state Rape Prevention and Education Program.

3. Increase the capacity of selected Rape Prevention and Education funded programs to sustain program planning and evaluation efforts after this cooperative agreement has ended.

4. Assess short-term and intermediate program planning and evaluation capacity building outcomes for each program.

5. Disseminate lessons learned to assist sexual violence prevention practitioners in programmatic decision making and evaluation.

For the purposes of this program announcement the following definition applies:

Sexual Violence: Any sexual act, attempt to obtain a sexual act, unwanted sexual comments or advances, or acts to traffic, or otherwise directed, against a person's sexuality using coercion, by any person regardless of their relationship to the victim, in any setting, including but not limited to home or work (Jewkes, R., Sen, P. and Garcia-Moreno, C., 2002).

This program addresses the “Healthy People 2010” focus area(s) of Injury and Violence Prevention.

Measurable outcomes of the program will be in alignment with the following performance goal for the National Center for Injury Prevention and Control (NCIPC):

Increase the capacity of injury prevention and control programs to address the prevention of injuries and violence.

This announcement is only for non-research activities supported by CDC/ATSDR. If research is proposed, the application will not be reviewed. For the definition of research, please see the CDC Web site at the following Internet address: http://www.cdc.gov/od/ads/opspoll1.htm.

Activities:

Awardee activities for this project are as follows:

a. Maintain current or increased level of program activities and staffing.

b. Convene a state prevention team that includes agencies, organizations and individuals who can inform the program planning and evaluation process.

c. Collaborate with CDC, CDC identified consultant(s) and the state prevention team in developing a comprehensive prevention program and evaluation plan for their state Rape Prevention and Education Program.

d. Contract with an in-state evaluator to assist the state prevention team in comprehensive program planning and evaluation efforts. The evaluator should operate from an empowerment evaluation framework to increase state capacity regarding comprehensive program planning and evaluation. The evaluator is expected to attend program planning and evaluation trainings provided by CDC and CDC identified consultant(s). The evaluator should be hired, or an internal evaluator identified, by March 2006.

e. Collaborate with CDC, the CDC identified consultant(s), the in-state evaluator, and the state prevention team on developing and/or implementing planning and evaluation tools.

f. Participate in routine program planning and evaluation training provided by CDC and CDC identified consultant(s) with other funded programs in a centralized location. The evaluation contractor, the health department grantee and at least one person from the state prevention team should attend these trainings.

g. Participate in training and technical assistance site visits with CDC and CDC identified consultant(s).

h. Participate in ongoing technical assistance and consultation with CDC and CDC identified consultant(s).

i. Participate with other grantees, CDC, and CDC identified consultant(s) in monthly conference calls.

j. Participate in a baseline and follow-up assessment of grantee program planning and evaluation capacity with CDC and CDC identified consultant(s).

k. Collaborate with CDC and other grantees on an ongoing basis by sharing lessons learned, tools and progress.

l. Disseminate lessons learned to local, state and national partners via multiple mechanisms such as conferences, meetings and reports.

m. Dedicate at least a .50 FTE to coordinate and support the state prevention team through planning and evaluation efforts, supervise and coordinator with staff and the evaluation contractor, collaborate with CDC and the CDC identified consultant(s), participate in monthly conference calls, travel to meetings, etc.

n. Submit reports to CDC as required.

In a cooperative agreement, CDC staff is substantially involved in the program activities, above and beyond routine grant monitoring.

CDC activities for this program are as follows:

a. Contract with relevant expert consultant(s) to provide funded programs with intensive comprehensive prevention program planning and evaluation training and technical assistance, which may include any of the following:

i. Making site visits to each program for the purpose of ongoing technical assistance.

ii. Training program staff in the use of logic models, evidence-based program planning, building comprehensive prevention programs, evaluation planning and implementation, etc.

iii. Assisting program staff with planning and evaluation activities.

iv. Conducting baseline and follow-up assessments of grantee program planning and evaluation capacity.

b. Assist the CDC identified consultant(s) in providing funded programs with intensive training and technical assistance as noted above.

c. Provide guidance on how to hire an evaluation contractor and approve the hire of applicant's evaluation contractor.

d. Coordinate information sharing among relevant CDC grantees and partners via multiple settings such as in-person meetings and regular conference calls.

e. Disseminate lessons learned to local, state and national partners via multiple mechanisms such as conferences, meetings and reports.

II. Award Information

Type of Award: Cooperative Agreement.

CDC involvement in this program is listed in the Activities Section above.

Fiscal Year Funds: 2005.

Approximate Total Funding: $400,000.

Approximate Number of Awards: 4.

Approximate Average Award: $100,000.

Floor of Award Range: $100,000.

Ceiling of Award Range: $100,000 (This ceiling is for the first 12-month budget period.)

Anticipated Award Date: September 1, 2005.

Budget Period Length: 12 months.

Project Period Length: three years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by the health departments of states and territories who are current recipients of Rape Prevention and Education funding.

III.2. Cost Sharing or Matching

Matching funds are not required for this program.

III.3. Other

CDC will accept and review applications with budgets greater than the ceiling of the award range.

Special Requirements

If your application is incomplete or non-responsive to the special requirements listed in this section, it will not be entered into the review process. You will be notified that your application did not meet submission requirements.

• Late applications will be considered non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

Electronic Submission

CDC strongly encourages you to submit your application electronically by utilizing the forms and instructions posted for this announcement on www.Grants.gov, the official Federal agency wide E-grant Web site. Only applicants who apply online are permitted to forego paper copy submission of all application forms.

Paper Submission

Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

Pre-Application Conference Call:

For interested applicants, one pre-application technical assistance call will be conducted on March 31, 2005 from 2-3 pm EST. Please e-mail Karen Lang at klang@cdc.gov by March 24, 2005 to request the conference call number and code. The conference call number and code will be provided via e-mail.

IV.2. Content and Form of Submission

Letter of Intent (LOI)

Electronic Submission

You may submit your LOI electronically at: http://www.grants.gov by filling out the required Grants.gov information and attach a word document.

Your LOI must be written in the following format:

• Maximum number of pages: one

• Font size: 12-point unreduced

• Single spaced

• Paper size: 8.5 by 11 inches

• Page margin size: One inch

• Printed only on one side of page

• Written in plain language, avoid jargon

Your LOI must contain the following information:

• Name of Organization

Application

Electronic Submission

You may submit your application electronically at: http://www.grants.gov. Applications completed online through Grants.gov are considered formally submitted when the applicant organization's Authorizing Official electronically submits the application to www.grants.gov. Electronic applications will be considered as having met the deadline if the application has been submitted electronically by the applicant organization's Authorizing Official to Grants.gov on or before the deadline date and time.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

CDC recommends that you submit your application to Grants.gov early enough to resolve any unanticipated difficulties prior to the deadline. You may also submit a back-up paper submission of your application. Any such paper submission must be received in accordance with the requirements for timely submission detailed in section IV.3. of the grant announcement. The paper submission must be clearly marked: “Back-up for Electronic Submission.” The paper submission must conform to all requirements for non-electronic submissions. If both electronic and back-up paper submissions are received by the deadline, the electronic version will be considered the official submission.

Paper Submission

If you plan to submit your application by hard copy, submit the original and two hard copies of your application by mail or express delivery service. Refer to section IV.6. Other Submission Requirements for submission address.

You must submit a program narrative with your application forms. The narrative must be submitted in the following format:

• Maximum number of pages: 15. If your narrative exceeds the page limit, only the first pages, which are within the page limit, will be reviewed. Budget justification does not count towards page limit.

• Font size: 12 point unreduced

• Double spaced

• Paper size: 8.5 by 11 inches

• Page margin size: One inch

• Printed only on one side of page

• Held together only by rubber bands or metal clips; not bound in any other way.

Your narrative should address activities to be conducted over the entire project period, and must include the following items in the order listed:

• Background and need for planning and evaluation assistance

• Program Description

• Capacity and Staffing

• Collaboration

• Measures of effectiveness

• Proposed budget and justification (does not count towards page limit)

Additional information may be included in the application appendices. The appendices will not be counted toward the narrative page limit. This additional information includes:

• Logic model of program

• Relevant planning documents

• Curriculum Vitaes or Resumes

• Organizational Charts

• Memorandum of Understanding from state prevention team members

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: April 18, 2005.

CDC requests that you send a LOI if you intend to apply for this program. Although the LOI is not required, not binding, and does not enter into the review of your subsequent application, the LOI will be used to gauge the level of interest in this program, and to allow CDC to plan the application review.

Application Deadline Date: May 16, 2005.

Explanation of Deadlines: LOI's and applications must be received in the CDC Procurement and Grants Office by 4 p.m. eastern time on the deadline date. If you submit your LOI and application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on LOI and application content, submission address, and deadline. It supersedes information provided in the application instructions. If your submission does not meet the deadline above, it will not be eligible for review, and will be discarded. You will be notified that you did not meet the submission requirements.

Electronic Submission

If you submit your application electronically with Grants.gov, your application will be electronically time/date stamped which will serve as receipt of submission. In turn, you will receive an e-mail notice of receipt when CDC receives the application. All electronic applications must be submitted by 4 p.m. eastern time on the application due date.

Paper Submission

CDC will not notify you upon receipt of your paper submission. If you have a question about the receipt of your LOI or application, first contact your courier. If you still have a question, contact the PGO-TIM staff at: 770-488-2700. Before calling, please wait two to three days after the submission deadline. This will allow time for submissions to be processed and logged.

IV.4. Intergovernmental Review of Applications

Executive Order 12372 does not apply to this program.

IV.5. Funding Restrictions

Restrictions, which must be taken into account while writing your budget, are as follows:

• Funds may not be used for research.

• Reimbursement of pre-award costs is not allowed.

• Budgets for the first period should include travel costs for the health department grantee, one person from the state prevention team and the evaluation contractor to attend up to three 2-day training meetings in Atlanta, Georgia with CDC staff, other cooperative agreement grantees, and the CDC identified consultant(s).

• Budgets for the first period should include an evaluation contractor to be identified (internal staff) and hired (contractor) by March 2006.

• Funds for this project cannot be used for construction.

• Funds for this project cannot be used for renovation.

• Funds for this project cannot be used for the lease of passenger vehicles.

• Funds for this project cannot be used for the development of major software applications.

• Funds for this project cannot be used for supplanting current applicant expenditures.

If you are requesting indirect costs in your budget, you must include a copy of your indirect cost rate agreement.

If your indirect cost rate is a provisional rate, the agreement should be less than 12 months of age.

Guidance for completing your budget can be found on the CDC Web site, at the following Internet address: http://www.cdc.gov/od/pgo/funding/budgetguide.htm.

IV.6. Other Submission Requirements

LOI Submission Address: Submit your LOI by express mail, delivery service, fax, or E-mail to: Karen Lang, National Center for Injury Prevention and Control, 4770 Buford Hwy, NE., Mailstop K-60, Atlanta, GA 30341; Phone: 770/488-1118; FAX: 770/488-1360; klang@cdc.gov.

Electronic Submission

LOIs may be submitted electronically at this time to http://www.Grants.gov. Fill out the required Grants.gov information and attach a word document with the necessary information from IV.2. Content and Form of Submission.

Application Submission Address

Electronic Submission

CDC strongly encourages applicants to submit electronically at: http://www.Grants.gov. You will be able to download a copy of the application package from www.Grants.gov, complete it offline, and then upload and submit the application via the Grants.gov site. E-mail submissions will not be accepted. If you are having technical difficulties in Grants.gov they can be reached by E-mail at http://www.support@grants.gov or by phone at 1-800-518-4726 (1-800-518-GRANTS). The Customer Support Center is open from 7 a.m. to 9 p.m. eastern time, Monday through Friday.

Paper Submission

If you chose to submit a paper application, submit the original and two hard copies of your application by mail or express delivery service to: Technical Information Management—RFA 05037, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Program Description (35 Points)

a. Does the applicant provide a description of their state Rape Prevention and Education Program that includes coordinated state-level initiatives and partnerships, local program components; program goals, objectives and desired outcomes; and staff capacity?

b. Does the applicant describe the training and technical assistance provided to RPE grantees and other partners?

c. Does the applicant provide a description of their RPE program planning efforts to date? Are the applicant's planning efforts intended to advance comprehensive prevention programs in the state?

d. Does the applicant describe current program evaluation activities (including methods and tools) and any findings that are available?

e. Does the applicant include relevant supporting documents such as a logic model or other graphic depiction of their program's intended purpose and projected outcomes, a state plan for the RPE program, meeting summaries or minutes from recent planning meetings, or evaluation findings?

2. Collaboration (30 Points)

a. Does the applicant describe the roles and responsibilities of all members of the state prevention team and provide memoranda of understanding from all team members?

b. Do the memoranda of understanding indicate a commitment to and understanding of the mission and vision of the national RPE program?

c. Does the state prevention team include the state sexual assault coalition and other individuals, agencies and organizations that can inform the comprehensive program planning and evaluation process for the state RPE Program?

d. Does the applicant demonstrate a successful history of collaborating effectively with organizations at the local and state levels?

3. Capacity and Staffing (25 Points)

a. Does the applicant dedicate at least a .50 FTE to the prevention program planning and evaluation project?

b. Does the applicant demonstrate an existing capacity and infrastructure, including the involvement of management level staff, to carry out the required activities in the cooperative agreement?

c. Does the applicant describe the relevant skills/expertise and responsibilities of individual staff members, levels of effort and allocation of time?

d. Does the applicant indicate they will be able to identify an internal evaluator or contract with an in-state evaluator within the specified timeframe (March 2006)?

4. Background and Need for Planning and Evaluation Assistance (10 Points)

a. Does the applicant describe resident planning and evaluation capacity and how this capacity building project will develop program staff and partner's prevention program planning and evaluation capacity and skills?

b. Does the applicant describe how this program planning and evaluation capacity building project will improve their state Rape Prevention and Education program?

5. Measures of Effectiveness (Not Scored)

Does the applicant provide objective/quantifiable measures regarding the intended outcomes that will demonstrate the accomplishment of the various identified objectives of the cooperative agreement?

6. Budget (Not Scored)

Does the applicant provide a detailed budget with complete line-item justification of all proposed costs consistent with the stated activities in the program announcement? Details must include a breakdown in the categories of personnel (with time allocations for each), staff travel, communications and postage, equipment, supplies, and any other costs? Does the budget projection include a narrative justification for all requested costs? Any sources of additional funding beyond the amount stipulated in this cooperative agreement should be indicated, including donated time or services. For each expense category, the budget should indicate CDC share, the applicant share and any other support. These funds should not be used to supplant existing efforts.

V.2. Review and Selection Process

Applications will be reviewed for completeness by the Procurement and Grants Office (PGO) staff and for responsiveness by the National Center for Injury Prevention and Control (NCIPC). Incomplete applications and applications that are non-responsive to the eligibility criteria will not advance through the review process. Applicants will be notified that their application did not meet submission requirements.

An objective review panel will evaluate complete and responsive applications according to the criteria listed in the “V.1. Criteria” section above. The objective review panel will be comprised of CDC employees from inside and outside the National Center for Injury Prevention and Control.

Applications will be funded in order by score and rank determined by the review panel. CDC will provide justification for any decision to fund out of rank order.

V.3. Anticipated Announcement and Award Dates

Anticipated Announcement Date: May 15, 2005.

Anticipated Award Date: September 1, 2005.

VI. Award Administration Information

VI.1. Award Notices

Successful applicants will receive a Notice of Award (NOA) from the CDC Procurement and Grants Office. The NOA shall be the only binding, authorizing document between the recipient and CDC. The NOA will be signed by an authorized Grants Management Officer, and mailed to the recipient fiscal officer identified in the application.

Unsuccessful applicants will receive notification of the results of the application review by mail.

VI.2. Administrative and National Policy Requirements

45 CFR part 74 and part 92.

For more information on the Code of Federal Regulations, see the National Archives and Records Administration at the following Internet address: http://www.access.gpo.gov/nara/cfr/cfr-table-search.html.

An additional Certifications form from the PHS5161-1 application needs to be included in your Grants.gov electronic submission only. Refer to: http://www.cdc.gov/od/pgo/funding/PHS5161-1-Certificates.pdf. Once the form is filled out attach it to your Grants.gov submission as Other Attachments Form.

The following additional requirements apply to this project:

• AR-10 Smoke-Free Workplace Requirements

• AR-11 Healthy People 2010

• AR-12 Lobbying Restrictions

• AR-13 Prohibition on Use of CDC Funds for Certain Gun Control Activities

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report, no more than 90 days after the end of the budget period.

3. Final financial and performance reports, no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341; Telephone: 770/488-2700.

For program technical assistance, contact: Karen Lang, Project Officer, National Center for Injury Prevention and Control, 4770 Buford Hwy, NE., Mailstop K-60, Atlanta, GA 30341; Telephone: 770-488-1118; E-mail: klang@cdc.gov.

For financial, grants management, or budget assistance, contact: Brenda Hayes, Grants Management Specialist, CDC Procurement and Grants Office, 2920 Brandywine Road, Atlanta, GA 30341; Telephone: 770-488-2741; Fax: 770/488-2670; E-mail: BHayes@cdc.gov.

VIII. Other Information

This and other CDC funding opportunity announcements can be found on the CDC Web site, Internet address: http://www.cdc.gov. Click on “Funding” then “Grants and Cooperative Agreements.”

Dated: March 11, 2005.
William P. Nichols,
Director, Procurement and Grants Office, Centers for Disease Control and Prevention.

[FR Doc. 05-5283 Filed 3-16-05; 8:45 am]

BILLING CODE 4163-18-P